DEPARTMENT OF THE INTERIOR

National Park Service

[N6844; NPS-WASO-NAGPRA-NPS0041750; PPWOCRADN0-PCU00RP14.R50000]

Notice of Inventory Completion: Oberlin College, Oberlin, OH

AGENCY: National Park Service, Interior.

ACTION: Notice.

SUMMARY: In accordance with the Native American Graves Protection and Repatriation Act (NAGPRA), Oberlin College has completed an inventory of human remains and associated funerary objects and has determined that there is a cultural affiliation between the human remains and associated funerary objects and Indian Tribes or Native Hawaiian organizations in this notice.

DATES: Repatriation of the human remains and associated funerary objects in this notice may occur on or after February 12, 2026.

ADDRESSES: Send written requests for repatriation of the human remains and associated funerary objects in this notice to Dr. Amy Margaris, Oberlin College, Department of Anthropology, King Building, 10 N Professor Street, Oberlin, OH 44074, email amy.margaris@oberlin.edu.

SUPPLEMENTARY INFORMATION: This notice is published as part of the National Park Service's administrative responsibilities under NAGPRA. The determinations in this notice are the sole responsibility of Oberlin College, and additional information on the determinations in this notice, including the results of consultation, can be found in its inventory or related records. The National Park Service is not responsible for the determinations in this notice.

Abstract of Information Available

Human remains representing at least 12 individuals have been identified. The 24 associated funerary objects are beads; unworked shell fragments; an herbivore tooth; a non-human vertebra; unworked pebbles; flint flakes; and possible charcoal fragments.

Lot 1 was recovered from the Morris-Franks (Franks) Site in Brownhelm Township, Lorain County, Ohio and consists of numerous skeletal elements totaling MNIs of three adults and two juveniles, and two tubular beads. This large site was excavated in the 1940s by amateur archaeologist Raymond C. Vietzen and was attributed by Vietzen as an Erie Indian (Late Woodland period) occupation and cemetery. Lot 1 was donated to Oberlin College by Mildred Haines on an unknown date. It is not known if potentially hazardous substances were used to treat any of the human remains or associated funerary objects.

Lot 2 was recovered from Catawba Island, Ottawa County, Ohio and consists of two skull fragments totaling an MNI of one. Accession #450 in the accession book of the former Oberlin College Museum records that the Museum received three pieces of a human skull as a gift from G.W. [Giles Waldo] Shurtleff, Oberlin, OH on Dec. 2, 1895. Shurtleff was an 1859 graduate of Oberlin College who later served as an Oberlin faculty member and Trustee. It is not known if potentially hazardous substances were used to treat any of the human remains.

Lot 3 was recovered from Lorain County, Ohio and consists of two mandibular fragments totaling an MNI of one. Presence of a single, very worn molar suggests the individual's age was adult to elderly. Adhering labels on the larger fragment read “521” and “from Indian mound, Sheffield O.”. An accompanying handwritten note reads “from debris fallen partly down bank of Black River in Sheffield, O. 10 feet above the alluvial soil and five feet above the high water mark [illegible] presented by Kendrick K. Keising.” The location is consistent with that of the Eiden Site (33-LN-14), a large prehistoric village site. It is not known if potentially hazardous substances were used to treat any of the human remains.

Lot 4 was recovered from Erie County, Ohio and consists of one complete mandible totaling an MNI of one. A single very worn tooth and presence of significant bone resorption around the tooth sockets suggests the individual's age was adult to elderly. Accession #66 in the accession book of the former Oberlin College Museum records that the Museum received a “skull of an Indian from a mound in Florence, Ohio before 1872.” It is not known if potentially hazardous substances were used to treat the human remains.

Lot 5 was recovered from Erie or Lorain County, Ohio and consists of three complete leg bones totaling an MNI of one. Labels on two of the bones read “Leg bone from an Indian Mound, Vermillion, Mr. Van Warner.” A similar label on the third bone reads “Indian Bones, Florence, O.”. Vermillion and Florence are adjacent townships linked by the Vermillion River. It is not known if potentially hazardous substances were used to treat any of the human remains.

Lot 6 was recovered from Lorain County, Ohio and consists of numerous complete and partial bones totaling MNIs of one adult and two juveniles, and 22 AFOs. Those AFOS consist of six unworked shell fragments; one herbivore tooth; one non-human vertebra; four unworked pebbles; eight flint flakes; and two possible charcoal fragments. An accompanying handwritten note reads “Erie Indian skeleton found five miles due north of here, 350-900 years old.” It is not known if potentially hazardous substances were used to treat any of the human remains or associated funerary objects.

Cultural Affiliation

Based on the information available and the results of consultation, cultural affiliation is reasonably identified by the geographical location or acquisition history of the human remains and associated funerary objects described in this notice.

Determinations

Oberlin College has determined that:

• The human remains described in this notice represent the physical remains of at least 12 individuals of Native American ancestry.

• The 24 objects described in this notice are reasonably believed to have been placed intentionally with or near individual human remains at the time of death or later as part of the death rite or ceremony.

• There is a connection between the human remains and associated funerary objects described in this notice and the Absentee-Shawnee Tribe of Indians of Oklahoma; Eastern Shawnee Tribe of Oklahoma; Match-e-be-nash-she-wish Band of Pottawatomi Indians of Michigan; Miami Tribe of Oklahoma; Shawnee Tribe, and the Wyandotte Nation.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after February 12, 2026. If competing requests for repatriation are received, Oberlin College must determine the most appropriate requestor prior to repatriation. Requests for joint repatriation of the human remains and associated funerary objects are considered a single request and not competing requests. Oberlin College is responsible for sending a copy of this notice to the Indian Tribes and Native Hawaiian organizations identified in this notice and any other consulting parties.

Authority: Native American Graves Protection and Repatriation Act, 25 U.S.C. 3003, and the implementing regulations, 43 CFR 10.10.

Dated: January 5, 2026.
Melanie O'Brien,
Manager, National NAGPRA Program.

[FR Doc. 2026-00464 Filed 1-12-26; 8:45 am]

BILLING CODE 4312-52-P